DEPARTMENT OF COMMERCE

International Trade Administration

[A-337-806]

Certain Individually Quick Frozen Red Raspberries From Chile: Notice of Extension of Time Limit for 2004-2005 Administration Review

AGENCY: Import Administration, International Trade Administration, Department of Commerce

EFFECTIVE DATE: March 7, 2006.

FOR FURTHER INFORMATION CONTACT: Devta Ohri or Andrew McAllister, AD/CVD Operations, Office 1 Import Administration, International Trade Administration, U.S. Department of Commerce, 14 Street and Constitution Avenue, NW., Washington, DC 20230; telephone (202) 482-3853 or (202) 482-1174, respectively.

Statutory Time Limits

Section 751(a)(3)(A) of the Tariff Act of 1930, as amended (“the Act”), requires the Department of Commerce (“Department”) to issue the preliminary results of an administrative review within 245 days after the last day of the anniversary month of an order for which a review is requested and a final determination within 120 days after the date on which the preliminary results are published. If it is not practicable to complete the review within the time period, section 751(a)(3)(A) of the Act allows the Department to extend these deadlines to a maximum of 365 days and 180 days, respectively.

Background

On August 29, 2005, the Department published in the Federal Register a notice of initiation of administrative review of the antidumping duty order on individually quick frozen red raspberries from Chile, covering the period July 1, 2004, through June 30, 2005. See Initiation of Antidumping and Countervailing Duty Administrative Reviews and Requests for Revocation in Part 70 FR 51009 (August 29, 2005). The preliminary results for this administration review are currently due no later than April 2, 2006.

Extension of Time Limits for Preliminary Results

The Department requires additional time to review, analyze, and verify the sales and cost information submitted by the parties in this administrative review. Moreover, the Department requires additional time to analyze complex issues related to produce and supplier relationships, issues additional supplemental questionnaires and fully analyze the responses. Thus, it is not practicable to complete this review within the original time limit (i.e., April 2, 2006). Therefore, the Department is extending the time limit for completion of the preliminary results to not later than June 13, 2006, in accordance with section 751(a)(3)(A) of the Act.

We are issuing and publishing this notice in accordance with sections 751(a)(1) and 777(i)(1) of the Act.

Dated: March 06, 2006.
Stephen J. Claeys,
Deputy Assistant Secretary for Import Administration.

[FR Doc. 06-2140 Filed 3-6-06; 8:45 am]

BILLING CODE 3510-DS-M